DEPARTMENT OF TRANSPORTATION

Federal Aviation Administration

14 CFR Part 39

[Docket No. FAA-2025-1348; Project Identifier MCAI-2025-00159-R]

RIN 2120-AA64

Airworthiness Directives; Leonardo S.p.a.

AGENCY: Federal Aviation Administration (FAA), DOT.

ACTION: Notice of proposed rulemaking (NPRM).

SUMMARY: The FAA proposes to supersede airworthiness directive (AD) 2024-09-02, which applies to all Leonardo S.p.a. Model AW169 helicopters. AD 2024-09-02 requires replacing certain aft float assemblies or, as an alternative, deactivating the emergency flotation system (EFS). AD 2024-09-02 also prohibits the installation of certain forward and aft float assemblies. Since the FAA issued AD 2024-09-02, the FAA has determined that replacing additional forward float and aft float life raft assemblies (also referred to as forward and aft float assemblies) is necessary. This proposed AD would retain all actions of AD 2024-09-02 and would also require replacing certain forward and aft float assemblies within 24 months or during the next accomplishment of a maintenance task. The FAA is proposing this AD to address the unsafe condition on these products.

DATES: The FAA must receive comments on this NPRM by August 15, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-1348; or in person at Docket Operations between 9 a.m. and 5 p.m., Monday through Friday, except Federal holidays. The AD docket contains this NPRM, the mandatory continuing airworthiness information (MCAI), any comments received, and other information. The street address for Docket Operations is listed above.

Material Incorporated by Reference:

• For European Union Aviation Safety Agency (EASA) material identified in this proposed AD, contact EASA, Konrad-Adenauer-Ufer 3, 50668 Cologne, Germany; telephone +49 221 8999 000; email ADs@easa.europa.eu; internet easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No FAA-20**-+++++.

FOR FURTHER INFORMATION CONTACT: Yves Petiote, Aviation Safety Engineer, FAA, 1600 Stewart Avenue, Suite 410, Westbury, NY 11590; phone: (202) 975-4867; email yves.petiote@faa.gov.

SUPPLEMENTARY INFORMATION:

Comments Invited

The FAA invites you to send any written relevant data, views, or arguments about this proposal. Send your comments using a method listed under the ADDRESSES section. Include “Docket No. FAA-2025-1348; Project Identifier MCAI-2025-00159-R” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Yves Petiote, Aviation Safety Engineer, FAA, 1600 Stewart Avenue, Suite 410, Westbury, NY 11590. Any commentary that the FAA receives which is not specifically designated as CBI will be placed in the public docket for this rulemaking.

Background

The FAA issued AD 2024-09-02, Amendment 39-22744 (89 FR 44547, May 21, 2024), (AD 2024-09-02), for all Leonardo S.p.a. Model AW169 helicopters. AD 2024-09-02 was prompted by an MCAI originated by EASA, which is the Technical Agent for the Member States of the European Union. EASA issued Emergency AD 2023-0188-E, dated October 30, 2023, (EASA AD 2023-0188-E) to correct manufacturing defects in certain DART Aerospace forward and aft float assemblies. According to DART Aerospace, non-conforming girt bars were used in some forward and aft float assemblies, and the belt loops in some aft float assemblies were incorrectly positioned.

AD 2024-09-02 requires replacing certain aft float assemblies or, as an alternative, deactivating the EFS. AD 2024-09-02 also prohibits the installation of certain forward and aft float assemblies. The FAA issued AD 2024-09-02 to address non-conforming float assemblies. The unsafe condition, if not addressed, could result in failure of a float assembly during an emergency landing on water and could prevent a timely egress from the helicopter, which could result in injury to helicopter occupants.

Actions Since AD 2024-09-02 Was Issued

Since the FAA issued AD 2024-09-02, the FAA has determined that replacing certain forward and aft float assemblies within 24 months or during the next accomplishment of maintenance task 95-24 or 95-25 of the Leonardo air vehicle maintenance planning information 69-B-05-21-00-00A-028A-A is necessary to address the unsafe condition. Accordingly, the FAA has included this long-term requirement in this proposed AD. The preamble to AD 2024-09-02 explains that the FAA considers the requirements “interim action” and was considering further rulemaking. The FAA has now determined that further rulemaking is indeed necessary, and this proposed AD follows from that determination.

AD 2024-09-02 did not include the cost of deactivating the EFS, whereas this proposed AD revises the Cost of Compliance paragraph to include this cost. In addition, the Cost of Compliance paragraph reflects an increase in the number of affected helicopters from 15 to 23, updates the part cost for the aft float assembly, and adds the part cost of the forward float assembly.

You may examine the MCAI in the AD docket at regulations.gov under Docket No. FAA-2025-1348.

Material Incorporated by Reference Under 1 CFR Part 51

This proposed AD would require EASA AD 2023-0188-E, which the Director of the Federal Register approved for incorporation by reference as of June 5, 2024 (89 FR 44547, May 21, 2024). EASA AD 2023-0188-E requires removing each affected float assembly and sending it to Leonardo and replacing it with a serviceable float assembly. As an alternative, EASA AD 2023-0188-E allows deactivating the EFS by locking the float auto breaker in EDCU [enhanced display control unit] 1 or 2; pulling, locking, and tagging the breaker from the overhead circuit breaker panel; and installing a decal in clear view of the pilot. EASA AD 2023-0188-E also prohibits installing an affected float assembly on a helicopter.

This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI referenced above. The FAA is issuing this NPRM after determining that the unsafe condition described previously is likely to exist or develop on other products of the same type design.

Proposed AD Requirements in This NPRM

This proposed AD would retain all requirements of AD 2024-09-02 and would also require accomplishing actions for Group 2 helicopters specified in EASA AD 2023-0188-E described previously, as proposed to be incorporated by reference, except for any differences identified as exceptions in the regulatory text of this AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2023-0188-E by reference in the FAA final rule. The proposed AD, therefore, would require compliance with EASA AD 2023-0188-E in its entirety through that incorporation, except for any differences identified as exceptions in the regulatory text of this proposed AD. Using common terms that are the same as the heading of a particular section in EASA AD 2023-0188-E does not mean that operators need comply only with that section. For example, where the AD requirement refers to “all required actions and compliance times,” compliance with this AD requirement is not limited to the section titled “Required Action(s) and Compliance Time(s)” in EASA AD 2023-0188-E. Service information referenced in EASA AD 2023-0188-E for compliance will be available at regulations.gov under Docket No. FAA-2025-1348 after this final rule is published.

Costs of Compliance

The FAA estimates that this AD, if adopted as proposed, would affect 23 helicopters of U.S. registry. Labor rates are estimated at $85 per hour. Based on these numbers, the FAA estimates the following costs to comply with this AD.

Replacing an affected float assembly would take 2 work-hours and parts cost up to $38,000 for an aft float assembly and up to $19,000 for a forward float assembly, for an estimated cost of up to $114,170 per helicopter (up to two aft and up to two forward float assemblies) and $2,625,910 for the U.S. fleet.

Deactivating the EFS would take about 1 work-hour, for an estimated cost of $85 per helicopter and $1,955 for the U.S. fleet.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2024-09-02, Amendment 39-22744 (89 FR 44547, May 21, 2024); and

b. Adding the following new airworthiness directive:

Leonardo S.p.a.: Docket No. FAA-2025-1348; Project Identifier MCAI-2025-00159-R.

(a) Comments Due Date

The FAA must receive comments on this airworthiness directive (AD) by August 15, 2025.

(b) Affected ADs

This AD replaces AD 2024-09-02, Amendment 39-22744 (89 FR 44547, May 21, 2024).

(c) Applicability

This AD applies to Leonardo S.p.a. Model AW169 helicopters, certificated in any category.

(d) Subject

Joint Aircraft System Component (JASC) Code 2560, Emergency Equipment; and 2564, Life Raft.

(e) Unsafe Condition

This AD was prompted by manufacturing defects in certain forward and aft float assemblies. The FAA is issuing this AD to address non-conforming float assemblies. The unsafe condition, if not addressed, could result in failure of a float assembly during an emergency landing on water and could prevent a timely egress from the helicopter, which could result in injury to helicopter occupants.

(f) Compliance

Comply with this AD within the compliance times specified, unless already done.

(g) Requirements

Except as specified in paragraphs (h) and (i) of this AD: Comply with all required actions and compliance times specified in, and in accordance with, European Union Aviation Safety Agency (EASA) Emergency AD 2023-0188-E, dated October 30, 2023 (EASA AD 2023-0188-E).

(h) Exceptions to EASA AD 2023-0188-E

(1) Where EASA AD 2023-0188-E requires compliance in terms of flight hours, this AD requires using hours time-in-service.

(2) Where EASA AD 2023-0188-E refers to its effective date, this AD requires using the effective date of this AD, except for Group 1 helicopters.

(3) Where Table 1 of EASA AD 2023-0188-E refers to its effective date, for Group 1 helicopters, this AD requires using the effective date of June 5, 2024 (the effective date of AD 2024-09-02).

(4) Where Table 1 of EASA AD 2023-0188-E refers to “Leonardo Aircraft Maintenance Manual Data Module (DM) 69-A-05-21-00-00A-028A-A”, this AD requires replacing that text with “Leonardo air vehicle maintenance planning information 69-B-05-21-00-00A-028A-A”.

(5) Where the service information referenced in paragraph (1) of EASA AD 2023-0188-E specifies sending a removed float assembly to Leonardo, this AD does not require that action.

(6) This AD does not adopt the “Remarks” section of EASA AD 2023-0188-E.

(i) No Reporting Requirement

Although the service information referenced in EASA AD 2023-0188-E specifies to submit certain information to the manufacturer, this AD does not require that action.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact Yves Petiote, Aviation Safety Engineer, FAA, 1600 Stewart Avenue, Suite 410, Westbury, NY 11590; phone: (202) 975-4867; email yves.petiote@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(3) The following material was approved for IBR on June 5, 2024 (89 FR 44547, May 21, 2024).

(i) European Union Aviation Safety Agency (EASA) Emergency AD 2023-0188-E, dated October 30, 2023.

(ii) [Reserved]

(4) For EASA material identified in this AD, contact EASA, Konrad-Adenauer-Ufer 3, 50668 Cologne, Germany; telephone +49 221 8999 000; email ADs@easa.europa.eu; website easa.europa.eu. You may find this material on the EASA website at ad.easa.europa.eu.

(5) You may view this material at the FAA, Office of the Regional Counsel, Southwest Region, 10101 Hillwood Parkway, Room 6N-321, Fort Worth, TX 76177. For information on the availability of this material at the FAA, call (817) 222-5110.

(6) You may view this material at the National Archives and Records Administration (NARA). For information on the availability of this material at NARA, visit www.archives.gov/federal-register/cfr/ibr-locationsoremailfr.inspection@nara.gov.

Issued on June 25, 2025.
Steven W. Thompson,
Acting Deputy Director, Compliance & Airworthiness Division, Aircraft Certification Service.

[FR Doc. 2025-12137 Filed 6-30-25; 8:45 am]

BILLING CODE 4910-13-P